SECURITIES AND EXCHANGE COMMISSION

[Release No. 34-78758; File no. SR-NYSEArca-2016-67]

Self-Regulatory Organizations; NYSE Arca, Inc.; Notice of Withdrawal of a Proposed Rule Change To List and Trade Shares of the Natixis Seeyond International Minimum Volatility ETF Under NYSE Arca Equities Rule 8.600

September 2, 2016.

On May 5, 2016, NYSE Arca, Inc. (“Exchange” or “NYSE Arca”) filed with the Securities and Exchange Commission (“Commission”), pursuant to Section 19(b)(1) of the Securities Exchange Act of 1934 (“Act”) ¹ and Rule 19b-4 thereunder,² a proposed rule change to list and trade shares (“Shares”) of the Natixis Seeyond International Minimum Volatility ETF (“Fund”) under NYSE Arca Equities Rule 8.600. The proposed rule change was published for comment in the Federal Register on May 25, 2016.³ On June 13, 2016, the Exchange filed Amendment No. 1 to the proposed rule change, which replaced and superseded its entirety the proposed rule change as originally filed.⁴ On June 22, 2016, the Exchange filed Amendment No. 2 to the proposed rule change.⁵ On July 1, 2016, the Exchange filed Amendment No. 3 to the proposed rule change, which replaced and superseded the proposed rule change as modified by Amendments No. 1 and No. 2.⁶ The Commission has received no comments on the proposed rule change. On June 30, 2016, pursuant to Section 19(b)(2) of the Act,⁷ the Commission designated a longer period within which to approve the proposed rule change, disapprove the proposed rule change, or institute proceedings to determine whether to disapprove the proposed rule change.⁸ On August 22, 2016, pursuant to Section 19(b)(2)(B) of the Act ⁹, the Commission instituted proceedings to determine whether to approve or disapprove the proposed rule change, as modified by Amendment No. 3.¹⁰

¹ 15 U.S.C. 78s(b)(1).

² 17 CFR 240.19b-4.

³ See Securities Exchange Act Release No. 77861 (May 19, 2016), 81 FR 33291.

⁴ In Amendment No. 1, the Exchange: (1) Narrows the universe of investments that may be held by the Fund; (2) offers color regarding types of corporate bonds of foreign issuers that the Fund would ordinarily hold; (3) clarifies potentially ambiguous language in the filing.

⁵ In Amendment No. 2, the Exchange proposes standards for the corporate bonds of foreign issuers that may be held by the Fund and clarifies how spot foreign currency transactions would be priced for purposes of calculating the net asset value of the Fund.

⁶ In Amendment No. 3, the Exchange revises the standards for the Fund's investment in non-U.S. equity securities. Amendments No. 1, No. 2, and No. 3 are available at: http://www.sec.gov/comments/sr-nysearca-2016-67/nysearca201667.shtml.

⁷ 15 U.S.C. 78s(b)(2).

⁸ See Securities Exchange Act Release No. 78204, 81 FR 44393 (July 7, 2016). The Commission designated a longer period within which to take action on the proposed rule change and designated August 23, 2016, as the date by which it should approve, disapprove, or institute proceedings to determine whether to disapprove the proposed rule change.

⁹ 15 U.S.C. 78s(b)(2)(B).

¹⁰ See Securities Exchange Act Release No. 78627, 81 FR 59002 (August 26, 2016).

On August 31, 2016, the Exchange withdrew the proposed rule change (SR-NYSEArca-2016-67).

For the Commission, by the Division of Trading and Markets, pursuant to delegated authority.¹¹
¹¹ 17 CFR 200.30-3(a)(12).
Brent J. Fields,
Secretary.

[FR Doc. 2016-21641 Filed 9-7-16; 8:45 am]

BILLING CODE 8011-01-P